DEPARTMENT OF ENERGY

Federal Energy Regulatory Commission

[Docket No. CP26-11-000]

Columbia Gulf Transmission, LLC; Notice of Schedule for the Preparation of an Environmental Assessment for the Pulaski Project

On October 15, 2025, Columbia Gulf Transmission, LLC (Columbia) filed an application in Docket No. CP26-11-000 requesting a Certificate of Public Convenience and Necessity pursuant to Section 7(c) of the Natural Gas Act to construct and operate certain natural gas pipeline facilities. The proposed project is known as the Pulaski Project (Project) and would service new and existing generation resources at the John S. Cooper Power Station and supply 253 million standard cubic feet per day of natural gas transportation.

On October 29, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EA CP26-11-000.

Schedule for Environmental Review

Issuance of EA June 22, 2026

90-day Federal Authorization Decision Deadline ² September 20, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Columbia proposes to install and operate 41.3 miles of new 30-inch-diameter natural gas pipeline from Lincoln County Kentucky to the new South Somerset Delivery Meter Station located in Pulaski County, Kentucky, with additional aboveground facilities. The Pulaski Project would provide about 253 million standard cubic feet of natural gas per day to the John S. Cooper Power Station in Pulaski County, Kentucky. According to Columbia, its project would service its new and existing generation resources.

Background

On November 24, 2025, the Commission issued a Notice of Scoping Period Requesting Comments on Environmental Issues for the Proposed Pulaski Project and Notice of Public Scoping Session (Notice of Scoping). The Notice of Scoping was sent to affected landowners; federal, state, and local government agencies; elected officials; environmental and public interest groups; Native American tribes; other interested parties; and local libraries and newspapers. In response to the Notice of Scoping, the Commission received comments from eleven landowners. The primary issues raised by the commenters are water quality after the Project, pipeline leaks, health and safety of the community, and impacts on natural resources. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

For public inquiries and assistance with making filings such as interventions, comments, or requests for rehearing, contact the Office of Public Participation at (202) 502-6595 or OPP@ferc.gov.

Additional information about the Project is available from the FERC website (www.ferc.gov). Using the “eLibrary” link, select “General Search” from the eLibrary menu, enter the selected date range and “Docket Number” excluding the last three digits (i.e., CP26-11), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

(Authority: 18 CFR 2.1)

Dated: January 7, 2026.
Debbie-Anne A. Reese,
Secretary.

[FR Doc. 2026-00405 Filed 1-12-26; 8:45 am]

BILLING CODE 6717-01-P